DEPARTMENT OF HEALTH AND HUMAN SERVICES

Indian Health Service

Notice To Propose the Redesignation of the Service Delivery Area for the Wampanoag Tribe of Gay Head (Aquinnah)

AGENCY: Indian Health Service, HHS.

ACTION: Notice; extension of the comment period.

SUMMARY: This document extends the comment period for the notice to propose Redesignation of the Service Delivery Area for the Wampanoag Tribe of Gay Head (Aquinnah), which was published in the Federal Register on October 5, 2015. The comment period for the notice, which would have ended on October 23, 2015, is extended by 30 days.

DATES: The comment period for the notice published in the Federal Register on August 24, 2015 (80 FR 51281) allowed for thirty days; the comment period was subsequently extended in the Federal Register (80 FR 60158) for an additional 30 days to October 23, 2015. This notice extends the comment period for an additional 30 days to November 22, 2015.

ADDRESSES: Because of staff and resource limitations, we cannot accept comments by facsimile transmission. You may submit comments in one of three ways (please choose only one of the ways listed):

1. By regular mail. You may mail written comments to the following address ONLY: Betty Gould, Regulations Officer, Indian Health Service, 801 Thompson, Avenue, TMP STE 450, Rockville, Maryland 20852.

Please allow sufficient time for mailed comments to be received before the close of the comment period.

2. By express or overnight mail. You may send written comments to the above address.

3. By hand or courier. If you prefer, you may deliver (by hand or courier) your written comments before the close of the comment period to the address above. If you intend to deliver your comments to the Rockville address, please call telephone number (301) 443-1116 in advance to schedule your arrival with a staff member.

Comments will be made available for public inspection at the Rockville address from 8:30 a.m. to 5:00 p.m., Monday-Friday, approximately three weeks after publication of this notice.

FOR FURTHER INFORMATION CONTACT: Carl Harper, Director, Office of Resource Access and Partnerships, Indian Health Service, 801 Thompson Avenue, Rockville, Maryland 20852. Telephone: (301) 443-1553.

SUPPLEMENTARY INFORMATION: The notice that was published in the Federal Register on August 24, 2015 advises the public that the Indian Health Service proposes to expand the geographic boundaries of the Service Delivery Area for the Wampanoag Tribe of Gay Head (Aquinnah) of Massachusetts. The Aquinnah service delivery area is currently comprised of members of the Tribe residing in Martha's Vineyard, Dukes County in the State of Massachusetts.

The Bureau of Indian Affairs recognized the Wampanoag Tribe of Gay Head on February 10, 1987. Martha's Vineyard, Dukes County was designated as the Aquinnah service delivery area in the Wampanoag Tribal Council of Gay Head, Inc., Indian Claims Settlement Act of 1987, Public Law 100-95.

This comment period is being extended to allow all interested parties the opportunity to comment on the proposed rule. Therefore, we are extending the comment period until November 22, 2015.

Dated: October 23, 2015.
Robert G. McSwain,
Principal Deputy Director, Indian Health Service.

[FR Doc. 2015-27898 Filed 10-30-15; 8:45 am]

BILLING CODE 4165-16-P